DEPARTMENT OF COMMERCE

International Trade Administration

[C-570-942]

Certain Kitchen Appliance Shelving and Racks From the People's Republic of China: Countervailing Duty Administrative Review; 2011

AGENCY: Import Administration, International Trade Administration, Department of Commerce.

SUMMARY: The Department of Commerce (the Department) is conducting an administrative review of the countervailing duty order on certain kitchen appliance shelving and racks (kitchen racks) from the People's Republic of China (PRC). The period of review (POR) is January 1, 2011, through December 31, 2011. We preliminarily determine that New King Shan (Zhu Hai) Co., Ltd. (NKS) received countervailable subsidies during the POR. We are also rescinding this review for Jiangsu Weixi Group Co. (Weixi).

DATES: Effective October 23, 2013.

FOR FURTHER INFORMATION CONTACT: Jennifer Meek or Josh Morris, Office of AD/CVD Operations, Office 1, Import Administration, International Trade Administration, U.S. Department of Commerce, 14th Street and Constitution Avenue NW., Washington, DC 20230; telephone: (202) 482-2778 and (202) 482-1779, respectively.

Scope of the Order

This order covers shelving and racks for refrigerators, freezers, combined refrigerator-freezers, other refrigerating or freezing equipment, cooking stoves, ranges, and ovens. The merchandise subject to the order is currently classifiable under the Harmonized Tariff Schedule of the United States (HTSUS) numbers 8418.99.80.50, 7321.90.50.00, 7321.90.60.40, 7321.90.60.90, 8418.99.80.60, 8419.90.95.20, 8516.90.80.00, and 8516.90.80.10. Although the HTSUS subheadings are provided for convenience and customs purposes, the written product description remains dispositive.

A full description of the scope of the order is contained in the memorandum from Christian Marsh, Deputy Assistant Secretary for Antidumping and Countervailing Duty Operations to Paul Piquado, Assistant Secretary for Import Administration, “Decision Memorandum for Preliminary Results for the Countervailing Duty Administrative Review: Kitchen Appliance Shelving and Racks from the People's Republic of China,” dated concurrently with this notice (Preliminary Decision Memorandum), which is hereby adopted by this notice.

The Preliminary Decision Memorandum is a public document and is on file electronically via Import Administration's Antidumping and Countervailing Duty Centralized Electronic Service System (IA ACCESS). IA ACCESS is available to registered users at http://iaaccess.trade.gov and in the Central Records Unit, Room 7046 of the main Department of Commerce building. In addition, a complete version of the Preliminary Decision Memorandum can be accessed directly on the internet at http://www.trade.gov/ia/. The signed Preliminary Decision Memorandum and the electronic versions of the Preliminary Decision Memorandum are identical in content.

Partial Rescission of the Administrative Review

Pursuant to 19 CFR 351.213(d)(1), we are rescinding this administrative review with respect to Weixi because the review request was timely withdrawn.

Methodology

The Department has conducted this review in accordance with section 751(a)(1)(A) of the Tariff Act of 1930, as amended (the Act). For each of the subsidy programs found countervailable, we preliminarily determine that there is a subsidy, i.e., a government-provided financial contribution that gives rise to a benefit to the recipient, and that the subsidy is specific.¹ In making these findings, we have relied, in part, on facts available and, because one or more respondents did not act to the best of their ability to respond to the Department's requests for information, we have drawn an adverse inference in selecting from among the facts otherwise available.² Finally, we were not able to make a preliminary determination of countervailability for one program because we require further information.³ We intend to seek that information and address the program in a post-preliminary analysis prior to our final results.

¹ See sections 771(5)(B) and (D) of the Act regarding financial contribution; section 771(5)(E) of the Act regarding benefit; and section 771(5A) of the Act regarding specificity. For a full description of the methodology underlying our conclusions, see Preliminary Decision Memorandum.

² See sections 776(a) and (b) of the Act. For further discussion, see Preliminary Decision Memorandum at “Use of Facts Otherwise Available and Adverse Inferences.”

³ See Preliminary Decision Memorandum at “Programs for Which More Information is Required.”

Preliminary Results of the Review

As a result of this review, we preliminarily determine a net subsidy rate of 8.52 percent for NKS for the period January 1, 2011, through December 31, 2011.

Assessment Rates

For Weixi, countervailing duties shall be assessed at rates equal to the cash deposit of estimated countervailing duties required at the time of entry, or withdrawal from warehouse, for consumption, during the period January 1, 2011, through December 31, 2011, in accordance with 19 CFR 351.212(c)(1)(i). The Department intends to issue appropriate assessment instructions directly to U.S. Customs and Border Protection (CBP) 15 days after publication of this notice. For NKS, we intend to issue instructions to CBP 15 days after publication of the final results of this review.

Cash Deposit Instructions

The Department also intends to instruct CBP to collect cash deposits of estimated countervailing duties in the amount shown above for NKS. For all non-reviewed firms, we will instruct CBP to continue to collect cash deposits of estimated countervailing duties at the most recent company-specific or all-others rate applicable to the company. These cash deposit requirements, when imposed, shall remain in effect until further notice.

Disclosure and Public Comment

The Department will disclose to parties to this proceeding the calculations performed in reaching the preliminary results within five days of the date of publication of these preliminary results.⁴ Due to the Department's intention to release a post-preliminary analysis memorandum, interested parties may submit written comments (case briefs) no later than one week after the issuance of that memorandum and rebuttal comments (rebuttal briefs) within five days after the time limit for filing case briefs. Pursuant to 19 CFR 351.309(d)(2), rebuttal briefs must be limited to issues raised in the case briefs. Parties who submit arguments are requested to submit with the argument: (1) A statement of the issue; (2) a brief summary of the argument; and (3) a table of authorities.

⁴ See 19 CFR 351.224(b).

Interested parties who wish to request a hearing, or to participate if one is requested, must submit a written request to the Assistant Secretary for Import Administration, U.S. Department of Commerce within 30 days after the date of publication of this notice.⁵ Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined.⁶ Parties should confirm by telephone the date, time, and location of the hearing.

⁵ See 19 CFR 351.310(c).

⁶ See 19 CFR 351.310.

Parties are reminded that briefs and hearing requests are to be filed electronically using IA ACCESS and that electronically filed documents must be received successfully in their entirety by 5:00 p.m. Eastern Time on the due date.

Unless the deadline is extended pursuant to section 751(a)(3)(A) of the Act, the Department will issue the final results of this administrative review, including the results of our analysis of the issues raised by the parties in their comments, within 120 days after issuance of these preliminary results.

This administrative review and notice are issued and published in accordance with sections 751(a)(1) and 777(i) of the Act and 19 CFR 351.213.

Dated: September 30, 2013.
Paul Piquado,
Assistant Secretary for Import Administration.

Appendix

List of Topics Discussed in the Preliminary Decision Memorandum

1. Background

2. Scope of the Order

3. Use of Facts Otherwise Available and Adverse Inferences

4. Subsidies Valuation Information

5. Analysis of Programs

[FR Doc. 2013-24836 Filed 10-22-13; 8:45 am]

BILLING CODE 3510-DS-P